DEPARTMENT OF ENERGY

Federal Energy Regulatory Commission

[Docket No. CP04-422-000]

Dominion Transmission, Inc., Tennessee Gas Pipeline Company, National Fuel Gas Supply Corporation; Notice of Filing

October 5, 2004.

Take notice that on September 28, 2004, Dominion Transmission, Inc. (Dominion), 120 Tredegar Street, Richmond, Virginia 23219; Tennessee Gas Pipeline Company (Tennessee), 9 Greenway Plaza, Houston, Texas 77046; and National Fuel Gas Supply Corporation (National Fuel), 6363 Main Street, Williamsville, New York 14221 (collectively, the Applicants) filed a joint abbreviated application for a certificate of public convenience and necessity pursuant to section 7 of the Natural Gas Act (NGA) and part 157 of the Commission's Rules and Regulations. The Applicants request authorization to modify operations of the jointly-owned Ellisburg Storage Pool in Potter County, Pennsylvania. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The current certificated capacity at Ellisburg Storage Pool is 98.43 Bcf, comprised of 52.53 Bcf of top gas capacity and 45.9 Bcf of base gas. The Applicants propose to modify operations at the Ellisburg Storage Pool by reducing the existing authorized base gas level by 3.0 billion cubic feet (Bcf) and increasing top gas capacity by 3.0 Bcf. Dominion's total authorized base and top gas levels will not be changed, in light of the corresponding proposed changes at the Woodhull facility. The additional capacity available for service by Tennessee and National Fuel will be offered on an open-access basis. There are no changes in the existing facilities and no capital investments required to implement the proposed change in operations.

Any questions regarding the application are to be directed to Anne E. Bomar, Managing Director Transmission Rates and Regulation, 120 Tredegar Street, Richmond, Virginia 23219; phone number (804) 819-2134.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Motions to intervene, protests and comments may be filed electronically via the Internet in lieu of paper; see 18 CFR 385.2001(a)(1)(iii) and the instructions on the Commission's web site under the “e-Filing” link. The Commission strongly encourages electronic filings.

Comment Date: 5 p.m. eastern time on October 26, 2004.

Magalie R. Salas,
Secretary.

[FR Doc. E4-2581 Filed 10-12-04; 8:45 am]

BILLING CODE 6717-01-P